DEPARTMENT OF AGRICULTURE

Forest Service

Del Norte County Resource Advisory Committee

AGENCY: Forest Service, Agriculture (USDA).

ACTION: Notice of meeting.

SUMMARY: The Del Norte County Resource Advisory Committee (RAC) will hold two virtual meetings. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the Six Rivers National Forest within Del Norte County, consistent with the Federal Lands Recreation Enhancement Act. RAC information can be found at the following website: https://www.fs.usda.gov/main/srnf/workingtogether/advisorycommittees.

DATES: The meetings will be held on:

• December 7, 2021, 4:00 p.m.-8:00 p.m., Pacific Standard Time; and

• December 8, 2021, 4:00 p.m.-8:00 p.m., Pacific Standard Time.

All RAC meetings are subject to cancellation. For status of the meetings prior to attendance, please contact the person listed under For Further Information Contact.

ADDRESSES: The meetings will be held with virtual attendance only (with call-in option). For virtual meeting information, please contact the person listed under For Further Information Contact.

Written comments may be submitted as described under Supplementary Information. All comments, including names and addresses when provided, are placed in the record and are available for public inspection and copying. The public may inspect comments received at the Gasquet Ranger District, 10600 Highway 199, Gasquet, CA 95543. Please call ahead to facilitate entry into the building.

FOR FURTHER INFORMATION CONTACT: Kathy Allen, Designated Federal Officer (DFO), by phone at 707-457-3860 or via email at kathy.allen@usda.gov.

Individuals who use telecommunication devices for the deaf/hard-of-hearing (TDD) may call the Federal Relay Service (FRS) at 1-800-877-8339, 24 hours per day, ever day of the year, including holidays.

SUPPLEMENTARY INFORMATION: The purpose of the meetings are to:

1. Provide updates regarding the status of the Secure Rural Schools Program and Title II funding; and

2. Review and recommend existing potential projects eligible for funding.

The meetings are open to the public. The agendas will include time for people to make oral statements of three minutes or less. Individuals wishing to make an oral statement should request in writing seven days before the meeting to be scheduled on the agenda for that particular meeting. Anyone who would like to bring related matters to the attention of the committee may file written statements with the committee staff before or after the meetings. Written comments and requests for time to make oral comments must be sent to Kathy Allen, DFO, Gasquet Ranger District, 10600 Highway 199, Gasquet, CA 95543, by email to kathy.allen@usda.gov, or via facsimile to 707-457-3860.

Meeting Accommodations: Please make requests in advance for sign language interpreter services, assistive listening devices, or other reasonable accommodation. For access to proceedings, please contact the person listed in the section titled For Further Information Contact. All reasonable accommodation requests are managed on a case-by-case basis.

Equal opportunity practices, in line with USDA policies, will be followed in all membership appointments to the RAC. To help ensure that recommendations of the RAC have taken into account the needs of the diverse groups served by the Department, membership shall include, to the extent practicable, individuals with demonstrated ability to represent minorities, women, and persons with disabilities.

The USDA prohibits discrimination in all of its programs and activities on the basis of race, color, national origin, religion, sex, gender identity (including gender expression), sexual orientation, disability, age, marital status, family/parental status, political beliefs, income derived from a public assistance program, or reprisal or retaliation for prior civil rights activity in any program or activity conducted or funded by USDA (not all bases apply to all programs).

Dated: November 12, 2021.
Cikena Reid,
USDA Committee Management Officer.

[FR Doc. 2021-25106 Filed 11-17-21; 8:45 am]

BILLING CODE 3411-15-P